DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Room 4211, U.S. Department of Commerce, 14th Street and Constitution Avenue, N.W., Washington, D.C.

Docket Number: 00-002. Applicant: The Regents of the University of Michigan, 417 Space Research, Ann Arbor, MI 48109-2143. Instrument: Analytical Electron Microscope, Model JEM-2010F. Manufacturer: JEOL Ltd., Japan. Intended Use: The instrument is intended to be used for investigations of microstructure and microchemistry of metals, ceramics, semi-conductors, polymers and biomaterials to relate the micro-and chemical properties of materials and compare with macroscopic properties. In addition, the instrument will be used for educational purposes in the courses MSE 562 Electron Microscopy I, MSE 220 Introduction to Materials and Manufacturing, and MSE 250 Principles of Engineering Materials. Application accepted by Commissioner of Customs: January 31, 2000.

Docket Number: 00-003. Applicant: University of North Dakota, Physics Department, Cornell Street, Witmer Hall, Room 213, Grand Forks, ND 58202-7129. Instrument: Scanning Tunneling Microscope, Model STM 25. Manufacturer: Omicron Associates, Germany. Intended Use: The instrument is intended to be used for investigating the structural, electronic and superconducting properties of advanced materials of technological interest (both conducting and insulating materials). During these studies the instrument will be used to image individual atoms on the surface of materials and characterize important structural features. In addition, the instrument will be used for educational purposes in the courses: PHYS428: Modern Physics Laboratory, PHYS437: Introductory Solid State, PHYS499: Senior Honors, PHYS536: Solid State Physics II and PHYS590: Research. In these courses students will have the opportunity to do state-of-the-art experiments in a wide range of research fields. Application accepted by Commissioner of Customs: February 10, 2000.

Docket Number: 00-004. Applicant: Michigan Technological University, Department of Civil and Environmental Engineering, 1400 Townsend Drive, Houghton, MI 49931. Instrument: Automatic Thin Section Machine. Manufacturer: Dansk Beton Teknik A/S, Denmark. Intended Use: The instrument is intended to be used to prepare thin sections of portland cement concrete and clinker, asphalt concrete, aggregate or other materials by precisely grinding the material to a desired thickness with little to no damage. The prepared specimens are then examined in an optical petrographic microscope and/or scanning electron microscope. The analysis of thin sections allows for the optical properties of the material to be assessed thus determining the crystallography and mineralogy. The objectives of these investigations will primarily focus on the evaluation of these civil engineering materials for the purpose of characterization, identifying deterioration mechanisms and improving performance. Application accepted by Commissioner of Customs: February 18, 2000.

Frank W. Creel,
Director, Statutory Import Programs Staff.

[FR Doc. 00-5514 Filed 3-6-00; 8:45 am]

BILLING CODE 3510-DS-P